SUSQUEHANNA RIVER BASIN COMMISSION

Commission Meeting

AGENCY: Susquehanna River Basin Commission.

ACTION: Notice.

SUMMARY: The Susquehanna River Basin Commission will conduct its regular business meeting on September 17, 2021, from Harrisburg, Pennsylvania. Details concerning the matters to be addressed at the business meeting are contained in the Supplementary Information section of this notice. Also the Commission published a document in the Federal Register on July 19, 2021, concerning its public hearing on August 12, 2021, held telephonically.

DATES: The meeting will be held on Thursday, September 17, 2021, at 9 a.m.

ADDRESSES: The meeting will be conducted digitally/telephonically from the Susquehanna River Basin Commission, 4423 N Front Street, Harrisburg, PA 17110.

FOR FURTHER INFORMATION CONTACT: Jason E. Oyler, General Counsel and Secretary to the Commission, telephone: 717-238-0423; fax: 717-238-2436.

SUPPLEMENTARY INFORMATION: The business meeting will include actions or presentations on the following items: (1) Adoption of proposed rulemaking and three groundwater related policies; (2) current expense budget for FY2023; (3) member jurisdictions allocation for 2023; (4) ratification of contracts/grants; (5) emergency certificate extension; and (6) Regulatory Program projects.

This agenda is complete at the time of issuance, but other items may be added, and some stricken without further notice. The listing of an item on the agenda does not necessarily mean that the Commission will take final action on it at this meeting. When the Commission does take final action, notice of these actions will be published in the Federal Register after the meeting. Any actions specific to projects will also be provided in writing directly to project sponsors.

Due to the COVID-19 considerations, the meeting will be conducted digitally/telephonically and there will be no physical public attendance. The public is invited to attend the Commission's business meeting. You can access the Business Meeting through a computer (Audio and Video) by following the link: https://srbc.webex.com/srbc/j.php?MTID=m9e8859e3b62c7e3e7d22d751744c4e3b then enter meeting number 177 753 8259 and password Sept17CommMtg. You may also participant telephonically by dialing 1-877-668-4493 and entering the meeting number 177 753 8259 followed by the # sign.

Written comments pertaining to items on the agenda at the business meeting that were not subject to the public hearing may be mailed to the Susquehanna River Basin Commission, 4423 North Front Street, Harrisburg, Pennsylvania 17110-1788, or submitted electronically through www.srbc.net/about/meetings-events/business-meeting.html. Such comments are due to the Commission on or before September 15, 2021. Comments will not be accepted at the business meeting noticed herein.

Authority: Public Law 91-575, 84 Stat. 1509 et seq., 18 CFR parts 806, 807, and 808.

Dated: August 16, 2021.
Jason E. Oyler,
General Counsel and Secretary to the Commission.

[FR Doc. 2021-17811 Filed 8-18-21; 8:45 am]

BILLING CODE 7040-01-P